DEPARTMENT OF HOMELAND SECURITY

Coast Guard

33 CFR Part 117

[CGD01-03-047]

Drawbridge Operation Regulations: Mystic River, CT

AGENCY: Coast Guard, DHS.

ACTION: Notice of temporary deviation from regulations.

SUMMARY: The Commander, First Coast Guard District, has issued a temporary deviation from the drawbridge operation regulations for the U.S. 1 Bridge, mile 2.8, across the Mystic River at Mystic, Connecticut. This temporary deviation replaces the temporary deviation published on June 2, 2003, and is necessary to test a new operating schedule to determine if a permanent change to the schedule is reasonable. The deviation published on June 2, 2003, is withdrawn.

DATES: The temporary deviation published on June 2, 2003, at 68 FR 32643 is withdrawn July 15, 2003. This temporary deviation is effective from July 18, 2003 through October 15, 2003. Comments must reach the Coast Guard on or before November 15, 2003.

ADDRESSES: You may mail comments to Commander (obr), First Coast Guard District, Bridge Branch, at 408 Atlantic Avenue, Boston, MA 02110-3350, or deliver them to the same address between 7 a.m. and 3 p.m., Monday through Friday, except Federal holidays. The telephone number is (617) 223-8364. The First Coast Guard District, Bridge Branch, maintains the public docket for this deviation. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Joseph Schmied, Project Officer, First Coast Guard District, at (212) 668-7195.

SUPPLEMENTARY INFORMATION:

Request for Comments

We encourage you to participate in this evaluation of the test deviation by submitting comments or related material. If you do so, please include your name and address, identify the docket number for this deviation (CGD01-03-047), indicate the specific section of this document to which each comment applies, and give the reason for each comment. Please submit all comments and related material in an unbound format, no larger than 8½ by 11 inches, suitable for copying. If you would like to know if they reached us, please enclose a stamped, self-addressed postcard or envelope. We will consider all comments and material received during the comment period.

Background and Purpose

The U.S. 1 Bridge has a vertical clearance of 4 feet at mean high water and 7 feet at mean low water in the closed position.

The existing regulations in 33 CFR 117.211(b), require the bridge to open on signal with a maximum delay of up to twenty minutes; except that from May 1 through October 31, from 7:15 a.m. to 7:15 p.m., the draw need only open once an hour, at quarter past the hour and from November 1 through April 30, from 8 p.m. to 4 a.m., the draw must open on signal after a six-hour advance notice is given.

On May 13, 2003, the Mystic Connecticut Chamber of Commerce and Marine Affairs Committee, requested that the U.S. 1 Bridge opening schedule be temporarily changed to test an alternate operation schedule.

At the request of the Mystic Chamber of Commerce and Marine Affairs Committee, the Commander, First Coast Guard District, issued a temporary deviation from the drawbridge operation regulations on May 20, 2003. That temporary deviation, notice of which was published in the Federal Register on June 2, 2003, at 68 FR 32643, authorized an alternate operating schedule effective from June 15, 2003 through August 31, 2003. The purpose of the temporary deviation was to test an alternate operation schedule and collect vehicular traffic data.

On May 30, 2003, the Coast Guard received a second letter from the Mystic Chamber of Commerce and Marine Affairs Committee. The Mystic Chamber of Commerce and Marine Affairs Committee requested that the effective period of the temporary deviation be changed to allow the bridge to operate under the alternate operation schedule from July 18, 2003 through October 15, 2003, and that the hourly daily operating schedule end at 6:40 p.m. instead of 7:40 p.m.

The District Commander issued a new test deviation as requested by the Mystic Chamber of Commerce and Marine Affairs Committee. This deviation allows the bridge to operate under the alternate operation schedule from July 18, 2003 through October 15, 2003, during the peak boating season.

Under this temporary deviation, effective from July 18, 2003 through October 15, 2003, the draw of the U.S. 1 Bridge shall open promptly and fully on signal; except that, from 7:40 a.m. to 6:40 p.m., daily, the draw shall open at 7:40 a.m., 8:40 a.m., 9:40 a.m., 10:40 a.m., 11:40 a.m., 1:10 p.m., 1:40 p.m., 2:40 p.m., 3:40 p.m., 4:40 p.m., 5:40 p.m., and 6:40 p.m.

After October 15, 2003, the bridge will operate in accordance with the existing drawbridge operation regulations.

This temporary deviation also eliminates the provision that permits openings to be delayed up to 20 minutes after an opening request is given. Under this temporary deviation, the bridge must open promptly and fully upon request, in accordance with 33 CFR 117.5.

This deviation from the operating regulations is authorized under 33 CFR 117.43, to test an alternate operating schedule.

Dated: June 6, 2003.
John L. Grenier,
Captain, Coast Guard, Acting Commander, First Coast Guard District.

[FR Doc. 03-17368 Filed 7-14-03; 8:45 am]

BILLING CODE 4910-15-P